DEPARTMENT OF THE INTERIOR

Bureau of Indian Affairs

[178A2100DD/AAKC001030/A0A501010.999900 253G]

Indian Gaming; Approval of Amendment to Tribal-State Class III Gaming Compact in the State of California

AGENCY: Bureau of Indian Affairs, Interior.

ACTION: Notice.

SUMMARY: The Yurok Tribe (Tribe) of the Yurok Reservation and State of California (State) entered into an amendment to an existing Tribal-State compact governing Class III gaming. This notice announces approval of the amendment.

DATES: Effective October 31, 2016.

FOR FURTHER INFORMATION CONTACT: Ms. Paula L. Hart, Director, Office of Indian Gaming, Office of the Assistant Secretary—Indian Affairs, Washington, DC 20240, (202) 219-4066.

SUPPLEMENTARY INFORMATION: Section 11 of the Indian Gaming Regulatory Act (IGRA) requires the Secretary of the Interior to publish in the Federal Register notice of approved Tribal-State compacts that are for the purpose of engaging in Class III gaming activities on Indian lands. See Public Law 100-497, 25 U.S.C. 2701 et seq. All Tribal-State Class III compacts, including amendments, are subject to review and approval by the Secretary under 25 CFR 293.4. The amendment provides that the Tribe may participate in the State's workers' compensation program or, in lieu of participation in the State's statutory workers' compensation system, the Tribe may create and maintain a system that provides redress for employees' work-related injuries. The amendment is approved. See 25 U.S.C. 2710(d)(8)(A).

Dated: October 21, 2016.
Lawrence S. Roberts,
Principal Deputy Assistant Secretary—Indian Affairs.

[FR Doc. 2016-26251 Filed 10-28-16; 8:45 am]

BILLING CODE 4337-15-P